DEPARTMENT OF HOMELAND SECURITY

Federal Emergency Management Agency

[Docket ID FEMA-2010-0007]

Fee for Services To Support FEMA's Offsite Radiological Emergency Preparedness Program

AGENCY: Federal Emergency Management Agency, DHS.

ACTION: Notice.

SUMMARY: The Federal Emergency Management Agency (FEMA) has established a fiscal year (FY) 2010 hourly rate of $53.72 for assessing and collecting fees from Nuclear Regulatory Commission (NRC) licensees for services provided by FEMA personnel for FEMA's Radiological Emergency Preparedness (REP) Program.

DATES: This hourly rate is effective for FY 2010 (October 1, 2009, to September 30, 2010).

FOR FURTHER INFORMATION CONTACT: James R. Kish, Director, Technological Hazards Division, Department of Homeland Security/FEMA, 1800 S. Bell Street—CC845, Mail Stop 3025, Arlington, VA 20598-3025; (202) 212-2205 (phone); or james.kish@dhs.gov (e-mail).

SUPPLEMENTARY INFORMATION: As authorized in 42 U.S.C. 5196e, FEMA will be charging an hourly user fee rate of $53.72 to NRC licensees of commercial nuclear power plants for all REP Program exercise-specific related services provided by FEMA personnel as described in 44 CFR part 354. FEMA will deposit these funds in the REP Program Fund to offset the actual costs by FEMA for its REP Program.

FEMA established the hourly rate on the basis of the methodology set forth in 44 CFR 354.4(b), “Determination of site-specific biennial exercise related component for [FEMA] personnel.” FEMA will use the rate to assess and collect fees for site-specific biennial exercise related services rendered by FEMA personnel. This hourly rate only addresses charges to NRC licensees for services that FEMA personnel provide under the site-specific biennial exercise component, not charges for services FEMA personnel provide under the flat fee component referenced at 44 CFR 354.4(d), and not for services that FEMA contractors provide.

Authority: 42 U.S.C. 5196(e), 44 CFR part 354.

W. Craig Fugate,
Administrator, Federal Emergency Management Agency.

[FR Doc. 2010-8816 Filed 4-15-10; 8:45 am]

BILLING CODE 9110-21-P